DEPARTMENT OF THE INTERIOR

National Park Service

Notice of Intent to Repatriate Cultural Items: Denver Art Museum, Denver, CO

AGENCY: National Park Service, Interior.

ACTION: Notice.

Notice is here given in accordance with the Native American Graves Protection and Repatriation Act (NAGPRA), 25 U.S.C. 3005, Sec. 7, of the intent to repatriate cultural items in the possession of the Denver Art Museum, Denver, CO, that meet the definition of “sacred objects” under 25 U.S.C. 3001.

This notice is published as part of the National Park Service’s administrative responsibilities under NAGPRA, 25 U.S.C. 3003, Sec. 5 (d)(3). The determinations within this notice are the sole responsibility of the museum, institution, or Federal agency that has control of these cultural items. The National Park Service is not responsible for the determinations within this notice.

The seven cultural items are one medicine cord, one painted wood figurine, two painted skin caps, and three Gaan masks.

In 1936, the Denver Art Museum purchased a medicine cord (1936.216.1) from The Field Museum of Natural History, Chicago, IL. The medicine cord consists of a cord with stone, shell, and bone objects, feathers, and a painted buckskin pouch attached. Accession records indicate that the medicine cord was originally purchased in 1903 by C.L. Owen at “Cibicu” on the White Mountain Apache Reservation.

In 1936, the Denver Art Museum purchased a wooden doll figurine (1936.216.2) from The Field Museum of Natural History, Chicago, IL. The painted wood figurine is about 5 inches long with a pony bead choker and feather attached to the neck. The wooden doll figurine originally accompanied a medicine cord that is still at The Field Museum of Natural History. Accession records indicate that the wooden doll figurine and accompanying medicine cord were originally purchased for The Field Museum of Natural History by C.L. Owen from “Hacka Nelgda,” also known as “Angry in Battle” or “Old Brigham Young.” Mr. Owen indicated that he had purchased the wooden doll figurine and accompanying medicine cord at the “North Fork, W.R.,” which is assumed to refer to the area of Cibicue, AZ, along the north fork of the White River. The United States census of 1900 (volume 6, 77, sheet 40, line 13) lists Brigham Young as a White Mountain Apache born in 1809 and living in the Cibicue area. Brigham Young’s wife is identified in the census records as “In a Son.”

In 1941, the Denver Art Museum purchased a painted skin cap (1946.179) from M. J. Kolhberg & Company, a Denver antique dealer. The painted skin cap has several feathers attached to the top. It is not known how M.J. Kolhberg & Company acquired the painted skin cap.

In 1946, the Denver Art Museum purchased a painted buckskin cap (1946.215) from Clay Lockett’s Yucca House in Tucson, AZ. The painted buckskin cap has a large group of feathers attached to the top. The bill of sale from Clay Lockett’s Yucca House lists the hat among “Apache material” and describes it as “M M’s Hat.” This could mean “medicine man’s hat.” Accession records indicate that the painted buckskin cap was originally collected by Maynard Dixon at Rice, AZ, in 1915. Rice, AZ, is located on the San Carlos Apache Reservation. Accession records identify the painted buckskin cap as “Western Apache.”

In 1947, the Denver Art Museum purchased the three Gaan masks from Altman Antiques, a Los Angeles, CA, antique dealer. One Gaan mask (1947.256) consists of a fabric hood mask and attached three-pronged wood rack with painted designs. A handwritten note on the catalog card identifies the mask as “W. Apache.” The second Gaan clown mask (1947.257) consists of a fabric hood mask and attached triangular wood rack with painted designs. Printing on the fabric on the inside of this mask reads “Gila Valley Flour Mills.” Gila Valley Flour Mills is located in the vicinity of the San Carlos Apache Reservation and White Mountain Apache Reservation. The third Gaan mask (1947.258) consists of a fabric hood mask and attached fan-shaped wood rack with painted designs and feathers. The catalog card identifies the mask as “Apache.” It is not known how Altman Antiques acquired the three Gaan masks.

Officials of the Denver Art Museum consulted with the Western Apache NAGPRA Working Group regarding the identity and cultural affiliation of the seven cultural items. The Western Apache NAGPRA Working Group represents the interests of the Fort McDowell Yavapai Nation, Arizona; San Carlos Apache Tribe of the San Carlos Apache Reservation, Arizona; Tonto Apache Tribe of Arizona; White Mountain Apache Tribe of the Fort Apache Reservation, Arizona; and Yavapai-Apache Nation of the Camp Verde Indian Reservation, Arizona. The Western Apache NAGPRA Working Group identified Ramon Riley (White Mountain Apache Tribe) and Carlyle Russell (San Carlos Apache Tribe) as traditional religious leaders pursuant to 43 CFR 10.2 (d)(3).

Mr. Riley and Mr. Russell indicated that the seven cultural items must be ritually retired according to traditional Apache religious practice. Research prepared by the Denver Art Museum at the recommendation of the Native American Graves Protection and Repatriation Review Committee confirms that ritual retirement is a traditional ceremonial use of these types of cultural items. Research conducted by the Denver Art Museum identified the design painted on the skin cap (1941.179) as similar to designs painted on caps associated with the 1903-1907 daagodighá religious movement among the White Mountain Apache. Mr. Riley identified the Gaan mask (1947.256) as having been made and used by the White Mountain Apache. Consultation with representatives of the Mescalero Apache Tribe of the Mescalero Reservation, New Mexico, and the Fort Sill Apache Tribe of Oklahoma confirms Mr. Riley’s identification. Mr. Riley identified the Gaan mask (1947.258) as having been made and used by the White Mountain Apache based on the materials used, design of the mask, and choice of paint.

Officials of the Denver Art Museum have informed the Western Apache NAGPRA Working Group that the wooden figurine (1936.216.2) was originally collected from a named individual and that a claim from a lineal descendant may be possible, pursuant to 25 U.S.C. 3005, Sec. 7 (a)(5)(C).

Accession records for the medicine cord (1936.216.1) and wooden figure (1936.216.2) are sufficiently detailed to demonstrate a cultural affiliation between these cultural items and the White Mountain Apache Tribe of the Fort Apache Reservation, Arizona. Accession records and consultation with the traditional religious leaders regarding the medicine cap (1941.179), Gaan mask (1947.256), and Gaan mask (1947.258) are sufficient to demonstrate a cultural affiliation between these cultural items and the White Mountain Apache Tribe of the Fort Apache Reservation, Arizona. Accession records for the medicine cap (1946.215) and Gaan mask (1947.257) are sufficiently detailed to demonstrate a cultural affiliation between these cultural items and the San Carlos Apache Tribe of the San Carlos Apache Reservation, Arizona.

Officials of the Denver Art Museum have determined that, pursuant to 25 U.S.C. 3001, Sec. 2 (3)(C), these seven cultural items are specific ceremonial objects needed by traditional Native American religious leaders for the practice of traditional Native American religions by their present-day adherents. Officials of the Denver Art Museum also have determined that, pursuant to 25 U.S.C. 3001, Sec. 2 (2), there is a relationship of shared group identity that can be reasonably traced between the medicine cord (1936.216.1), wooden figure (1936.216.2), medicine cap (1941.179), Gaan mask (1947.256), and Gaan mask (1947.258) and the White Mountain Apache Tribe of the Fort Apache Reservation, Arizona. Officials of the Denver Art Museum also have determined that, pursuant to 25 U.S.C. 3001, Sec. 2 (2), there is a relationship of shared group identity that can be reasonably traced between the medicine cap (1946.215) and Gaan mask (1947.257) and the San Carlos Apache Tribe of the San Carlos Apache Reservation, Arizona. Officials of the Denver Art Museum have determined that, pursuant to 25 U.S.C. 3001, Sec. 2 (13), the museum holds right of possession to the seven sacred objects. However, the Denver Art Museum has deaccessioned the seven cultural items for purposes of transferring right of possession and control of the items to the Western Apache NAGPRA Working Group pursuant to 25 U.S.C. 3009, Sec. 11 (1).

Representatives of any other Indian tribe that believes itself to be culturally affiliated with these sacred objects should contact Nancy J. Blomberg, Curator of Native Arts, Denver Art Museum, 100 West 14th Avenue Parkway, Denver, CO 80204, telephone (720) 913-0161, before April 14, 2003. Repatriation of the seven sacred objects to the Western Apache NAGPRA Working Group, representing the interests of the Fort McDowell Yavapai Nation, Arizona; San Carlos Apache Tribe of the San Carlos Apache Reservation, Arizona; Tonto Apache Tribe of Arizona; White Mountain Apache Tribe of the Fort Apache Reservation, Arizona; and Yavapai-Apache Nation of the Camp Verde Indian Reservation, Arizona, may proceed after that date if no additional claimants come forward.

The Denver Art Museum is responsible for notifying the Fort McDowell Yavapai Nation, Arizona; Fort Sill Apache Tribe of Oklahoma; Mescalaro Apache Tribe of the Mescalaro Reservation, New Mexico; San Carlos Apache Tribe of the San Carlos Apache Reservation, Arizona; Tonto Apache Tribe of Arizona; White Mountain Apache Tribe of the Fort Apache Reservation, Arizona; Yavapai-Apache Nation of the Camp Verde Indian Reservation, Arizona; and Western Apache NAGPRA Working Group that this notice has been published.

Dated: January 31, 2003.
John Robbins,
Assistant Director, Cultural Resources Stewardship and Partnerships.

[FR Doc. 03-6215 Filed 3-13-03; 8:45 am]

BILLING CODE 4310-70-S